DEPARTMENT OF ENERGY

Federal Energy Regulatory Commission

[Project No. 13629-002]

Coleman Hydro LLC; Notice of Teleconference

a. Project Name and Number: Coleman Hydroelectric Project No. 13629.

b. Date and Time of Meeting: September 22, 2015; 10:00 a.m. Pacific Daylight Time (11:00 a.m. Mountain Daylight Time).

c. FERC Contact: Jim Hastreiter, james.hastreiter@ferc.gov or (503) 552-2760.

d. Purpose of Meeting: U.S. Fish and Wildlife Service has requested the teleconference to discuss the scope of the proposed Coleman Hydroelectric Project and its effects on federally-listed bull trout, as it relates to the Commission staff's request for formal consultation under section 7 of the Endangered Species Act.

e. All local, state, and federal agencies, Indian tribes, and other interested parties are invited to participate by phone. Please call Jim Hastreiter at (503) 552-2760 by September 15, 2015, to RSVP and to receive specific instructions on how to participate.

Dated: September 8, 2015.
Kimberly D. Bose,
Secretary.

[FR Doc. 2015-23054 Filed 9-11-15; 8:45 am]

BILLING CODE 6717-01-P